DEPARTMENT OF ENERGY

Federal Energy Regulatory Commission

Combined Notice of Filings #3

Take notice that the Commission received the following electric corporate filings:

Docket Numbers: EC17-133-000.

Applicants: Beech Ridge Energy LLC, Beech Ridge Energy II LLC, Beech Ridge Energy Storage LLC, Bishop Hill Energy III LLC, Bishop Hill Interconnection LLC, Buckeye Wind Energy LLC, Forward Energy LLC, Grand Ridge Energy LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy II LLC, Prairie Breeze Wind Energy III LLC, Sheldon Energy LLC, Spring Canyon Energy LLC, Stony Creek Energy LLC, Vantage Wind Energy LLC, Wolverine Creek Energy LLC, Wolverine Creek Goshen Interconnection LLC, Willow Creek Energy LLC, Grand Ridge Energy II LLC.

Description: Supplement to June 21, 2017 Application for Authorization Under Section 203 of the Federal Power Act, et al. of Beech Ridge Energy LLC, et al.

Filed Date: 7/6/17.

Accession Number: 20170706-5176.

Comments Due: 5 p.m. ET 7/17/17.

Take notice that the Commission received the following electric rate filings:

Docket Numbers: ER12-2145-005; ER17-987-001; ER10-2834-005; ER11-2905-004; ER11-2904-004; ER10-2821-005; ER12-1329-005.

Applicants: EC&R O&M, LLC, Iron Horse Battery Storage, LLC, Munnsville Wind Farm, LLC, Pioneer Trail Wind Farm, LLC, Settlers Trail Wind Farm, LLC, Stony Creek Wind Farm, LLC, Wildcat Wind Farm I, LLC.

Description: Notice of Change in Status of ECRNA Companies.

Filed Date: 7/6/17.

Accession Number: 20170706-5180.

Comments Due: 5 p.m. ET 7/27/17.

Docket Numbers: ER16-2365-000.

Applicants: All Dams Generation, LLC.

Description: Report Filing: Refund Report to be effective N/A.

Filed Date: 7/7/17.

Accession Number: 20170707-5145.

Comments Due: 5 p.m. ET 7/28/17.

Docket Numbers: ER17-2060-000.

Applicants: Nevada Power Company.

Description: § 205(d) Rate Filing: Rate Schedule No. 120 Third Amnded_Restated Agrm Concurrence to be effective 3/1/2017.

Filed Date: 7/7/17.

Accession Number: 20170707-5113.

Comments Due: 5 p.m. ET 7/28/17.

Docket Numbers: ER17-2061-000.

Applicants: California Independent System Operator Corporation.

Description: § 205(d) Rate Filing: 2017-07-07 Amendment No. 1 to MEEA with WAPA—Sierra Nevada Region to be effective 9/6/2017.

Filed Date: 7/7/17.

Accession Number: 20170707-5114.

Comments Due: 5 p.m. ET 7/28/17.

Docket Numbers: ER17-2062-000.

Applicants: New England States Committee on Electricity.

Description: Informational Filing of New England States Committee on Electricity.

Filed Date: 7/6/17.

Accession Number: 20170706-5178.

Comments Due: 5 p.m. ET 7/27/17.

Docket Numbers: ER17-2063-000.

Applicants: Virginia Electric and Power Company.

Description: Notice of Cancellation of Generator Interconnection and Operating Service Agreement [No. 337] of Virginia Electric and Power Company.

Filed Date: 7/7/17.

Accession Number: 20170707-5120.

Comments Due: 5 p.m. ET 7/28/17.

Docket Numbers: ER17-2064-000.

Applicants: Southern California Edison Company.

Description: § 205(d) Rate Filing: LGIA NRG Solar Desert Center LLC Solth Project to be effective 9/6/2017.

Filed Date: 7/7/17.

Accession Number: 20170707-5131.

Comments Due: 5 p.m. ET 7/28/17.

Docket Numbers: ER17-2065-000.

Applicants: PJM Interconnection, L.L.C.

Description: § 205(d) Rate Filing: Dynamic Schedule Agreement SA No. 4750 to be effective 7/11/2017.

Filed Date: 7/7/17.

Accession Number: 20170707-5146.

Comments Due: 5 p.m. ET 7/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2017.
Nathaniel J. Davis, Sr.,
Deputy Secretary.

[FR Doc. 2017-14874 Filed 7-14-17; 8:45 am]

BILLING CODE 6717-01-P